ENVIRONMENTAL PROTECTION AGENCY

[OPP-2002-0070; FRL-7178-4]

Notice of Receipt of Requests for Amendments to Delete Uses in certain Pesticide Registrations

AGENCY: Environmental Protection Agency (EPA).

ACTION: Notice.

SUMMARY: In accordance with section 6(f)(1) of the Federal Insecticide, Fungicide and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective on December 10 ,2002, unless the Agency receives a withdrawal request on or before December 10, 2002. The Agency will consider withdrawal requests postmarked December 10, 2002.

Users of these products who desire continued use on crops or sites being deleted should contact the applicable registrant on or before December 10, 2002.

ADDRESSES: Withdrawal requests may be submitted by mail, electronically, or in person. Please follow the detailed instructions for each method as provided in Unit I. of the SUPPLEMENTARY INFORMATION. To ensure proper receipt by EPA, it is imperative that you identify docket ID number [OPP-2002-0070] in the subject line on the first page of your response.

FOR FURTHER INFORMATION CONTACT: By mail: James A. Hollins, Office of Pesticide Programs (7502C), Environmental Protection Agency, 1200 Pennsylvania Ave., NW., Washington, DC 20460; telephone number: (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional information, Including Copies of this Document and Other Related Documents?

1. Electronically. You may obtain electronic copies of this document and certain other related documents that might be available electronically, from the EPA Internet Home Page at http://www.epa.gov. To access this document, on the Home Page select “Laws and Regulations,” “Regulations and Proposed Rules,” and then look up the entry for this document under the “Federal Register—Environmental Documents.” You can also go directly to the Federal Register listing at http://www.epa.gov/fedrgstr/.

2. In person. The Agency has established an official record for this action under docket ID number [OPP-2002-0070]. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of this official record, which includes printed, paper versions of any electronic comments submitted during as applicable comment period, is available for inspection in the Public Information and Records Integrity Branch (PIRIB), Room 119, Crystal Mall #2, 1921 Jefferson Davis Hwy., Arlington, VA, from 8:30 a.m. to 4:00 p.m., Monday through Friday, excluding legal holidays. The PIRIB telephone number is (703) 305-5805.

C. How and to Whom Do I Submit Withdrawal Requests?

You may submit withdrawal requests through the mail, in person, or electronically. To ensure proper receipt by EPA, it is imperative that you identify docket ID number [OPP-2002-0070] in the subject line on the first page of your response.

1. By mail. Submit your withdrawal request to: James A. Hollins, Office of Pesticide Programs (7502C), Environmental Protection Agency, 1200 Pennsylvania Ave., NW., Washington, DC 20460.

2. In person or by courier. Deliver your withdrawal request to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your withdrawal request electronically by e-mail to: opp-docket@epa.gov, or you can submit a computer disk as described above. Do not submit any information electronically that you consider to be CBI. Avoid the use of special characters and any form of encryption. Electronic submissions will be accepted in WordPerfect 6.1/8.0 or ASCII file format. All withdrawal requests in electronic form must be identified by docket ID number [OPP-2002-0070]. Electronic withdrawal requests may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the withdrawal request that includes any information claimed as CBI, a copy of the withdrawal request that does not contain the information claimed as CBI must be submitted for inclusion in the public version of the official record. Information not marked confidential will be included in the public version of the official record without prior notice. If you have any questions about CBI or the procedures for claiming CBI, please consult the person listed under FOR FURTHER INFORMATION CONTACT.

II. What Action is the Agency Taking?

This notice announces receipt by the Agency of applications from registrants to delete uses in certain pesticide registrations. These registrations are listed in Table 1 by registration number, product name/active ingredient, and specific uses deleted:

Table 1.—Registrations With Requests for Amendments to Delete Uses in Certain Pesticide Registrations
Registration no. | Product | Chemical Name | Delete From Label
000264-00456 | Ethoprop Technical | Ethoprop | Nonbearing citrus trees
000264-00458 | MOCAP EC Nematicide-Insecticide | Ethoprop | Nonbearing citrus trees
000264-00599 | Ethoprop Technical | Ethoprop | nonbearing citrus trees
001386-00609 | Trifluralin 4EC Herbicide | Trifluralin | Clover
002217-00362 | Gordon's MCPA Amine 4 | MCPA, dimethylamine salt | Rice in California
008660-00050 | 1% Rotenone Garden Dust | Rotenone; Cube resins other that rotenone | All food uses
010163-00099 | Gowan Trifluralin 5 | Trifluralin | Flax
010163-00101 | Gowan Trifluralin 4 | Trifluralin | Flax
010163-00120 | Gowan Trifluralin 10G | Trifluralin | Flax
040083-00001 | Lindane Technical | Lindane | Broccoli, brussels sprouts, cabbage, cauliflower, celery, collards, lettuce, kale, kohlrabi, mustard greens, radish, spinach, and swiss chard
042750-00038 | Butyrac 200 Broadleaf Herbicide | Dimethylamine 4-(2,4-dichlorophenoxy)butyrate | Clover
062719-00386 | Stam F-34 | Propanil | Spring barley, oats, durum wheat, and spring (hard red) wheat
062719-00403 | Stam Technical 98% DCA | Propanil | Cereals (spring barley, oats, durum wheat, spring (hard red) wheat)
062719-00413 | Stam 80 EDF | Propanil | Cereal grains
067760-00036 | Dimethoate 2.67 EC | Dimethoate | Residential and housefly uses
067760-00044 | Dimethoate 4 E | Dimethoate | Residential and housefly uses
068156-00004 | Dintec HFP Trifluralin | Trifluralin | Rapeseed
EPA company numbers 000264, 002217, 040083, 042750 and 067760 have requested a 30-day comment period for registrations listed.

Users of these products who desire continued use on crops or sites being deleted should contact the applicable registrant listed in Table 2 below before December 10, 2002, to discuss withdrawal of the application for amendment. This 180-day period will also permit interested members of the public to intercede with registrants prior to the Agency's approval of the deletion.

Table 2 includes the names and addresses of record for all registrants of the products in Table 1, in sequence by EPA company number.

Table 2.—Registrants Requesting Voluntary Cancellation
EPA Company no. | Company Name and Address
000264 | Aventis Cropscience USA LP, 2 T.W. Alexander Drive Box 12014, Research Triangle Park, NC 27709.
001386 | Universal Cooperatives Inc., 1300 Corporate Center Curve, Eagan, MN 55121.
002217 | PBI/Gordon Corp., Attn: Craig Martens, Box 014090, Kansas City, MO 64101.
008660 | Earth Care, Division of United Industries Corporatio, Box 142642, St. Louis, MO 63114.
010163 | Gowan Co., Box 5569, Yuma, AZ 85366.
040083 | Inquinosa Internacional, S.A., Paseo De La Castellance, 123, 9 B, 28046 Mardr, .
042750 | Pyxis Regulatory Consulting, Agent For: Albaugh Inc., 11324 17th Ave.Ct. NW, Gig Harbor, WA 98332.
062719 | Dow AgroSciences LLC, 9330 Zionsville Rd 308/2E225, Indianapolis, IN 46268.
067760 | Cheminova Inc., Oak Hill Park 1700 Route 23 - Ste 210, Wayne, NJ 07470.
068156 | Dintec Agrichemicals, 9330 Zionsville Rd, Indianapolis, IN 46268.

III. What is the Agency Authority for Taking This Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit such withdrawal in writing to James A. Hollins, at the address under FOR FURTHER INFORMATION CONTACT, postmarked on or before December 10, 2002.

V. Provisions for Disposition of Existing Stocks

The Agency has authorized the registrants to sell or distribute product under the previously approved labeling for a period of 18 months after approval of the revision, unless other restrictions have been imposed, as in special review actions.

List of Subjects

Environmental protection, Pesticides and pests.

Dated: May 29, 2002.
Linda Vlier Moos,
Acting Director, Information Resources and Services Division.

[FR Doc. 02-14997 Filed 6-12-02; 8:45 a.m.]

BILLING CODE 6560-50-S